DEPARTMENT OF ENERGY

Federal Energy Regulatory Commission

[Docket Nos. AD04-13-000, RM05-4-000, RM02-1-000, RM02-12-000, NJ04-2-000, NJ05-1-000, and NJ05-2-000]

Assessing the State of Wind Energy in Wholesale Electricity Markets, Interconnection for Wind Energy and Other Alternative Technologies, Standardization of Generator Interconnection Agreements and Procedures, Standardization of Small Generator Interconnection Agreements and Procedures, Basin Electric Power Cooperative, United States Department of Energy, Western Area Power Authority, United States Department of Energy, Bonneville Power Administration; Notice of Meeting

February 16, 2005.

Take notice that the Federal Energy Regulatory Commission is meeting with representatives of Indian tribal governments, the Western Area Power Authority, and Basin Electric Power Cooperative on Wednesday, February 23, 2005, to discuss general and regional issues regarding the development and interconnection of tribal wind energy resources. Topics related to the above dockets may be discussed at this meeting. This notice is being published pursuant to section 3(a) of the government in the Sunshine Act (Pub. L. 94-409), 5 U.S.C. 552b (2004).

The meeting will be held from 3 pm to 6 pm (CST) in Aurora Ballroom #3 at the Alerus Center, 1200 42nd Street South, Grand Forks, North Dakota 58201. Commission members and staff will participate in this meeting.

Be advised that concurrently with this meeting, the Alerus Center will be hosting a Renewable Energy Conference. Registration for the Renewable Energy Conference, sponsored by University of North Dakota Energy and Environmental Research Center and others, is not required for attendance at the Commission's meeting with Indian tribes. Information regarding the Renewable Energy Conference can be obtained at http://www.undeerc.org/reconference.

Members of the public may attend the Commission's meeting, however, participation will be limited to tribal representatives, Commission representatives, the Western Area Power Authority, and Basin Electric Power Cooperative.

The following is an overview of the meeting agenda, a more detail agenda will be distributed at the meeting:

3 p.m. to 4:15 p.m. Issues related to the development and interconnection of wind energy resources

4:15 p.m. to 4:30 p.m. Break

4:30 p.m. to 6 p.m. Wind interconnection issues in the Upper Midwest

The goal of this meeting is to further the Commission's, Western Area Power Authority's, and Basin Electric Power Cooperative's understanding of Indian tribes' interests and concerns regarding the development and interconnection of wind energy resources. This meeting will not be transcribed. If meeting participants, or public observers, would like to include comments in the record for any particular Commission proceeding regarding topics addressed at this meeting, such comments must be filed with the Commission in the appropriate docket.

Registration is not required to attend this meeting, however, meeting participants and public observers are encouraged to contact Rollie Wilson, the Commission's Tribal Liaison at 202-502-8787, or rollie.wilson@ferc.gov, to help ensure adequate meeting space, discuss meeting topics, or any other questions.

Magalie R. Salas,
Secretary.

[FR Doc. E5-779 Filed 2-24-05; 8:45 am]

BILLING CODE 6717-01-P